SURFACE TRANSPORTATION BOARD

[Docket No. FD 36540]

Cornhusker Railroad, LLC—Operation Exemption—Trackage in Hall and Adams Counties, Neb.

Cornhusker Railroad, LLC (CORN), a noncarrier, has filed a verified notice of exemption pursuant to 49 CFR 1150.31 to operate approximately 27 miles of track in Hall and Adams Counties, Neb. (the Line). The Line consists of: (1) The Grand Island Branch, between a connection with BNSF Railway Company (BNSF) at West Airport Road near BNSF milepost 103.55 in Ovina, Neb., and a connection with Union Pacific Railroad Company (UP) at West Husker Highway near UP milepost 154.5 in Alda, Neb., a distance of approximately five miles, and approximately 17 miles of connected industry track to the west, all located in Hall County; and (2) the Hastings Branch, consisting of approximately five miles of industry track that connects to UP's Hastings Industrial Park Subdivision in Hastings, Adams County. According to CORN, no common carrier services are currently being offered on the Line.¹

¹ The verified notice states that five miles of the Grand Island Branch were the subject of two prior acquisition and operation proceedings, but the authority was never consummated and the Line remains private trackage. See Cornhusker Rys.—Acquis. & Operation Exemption—Rail Line of DTE Rail Servs., Inc., FD 34719 (STB served July 20, 2005); Freightcar Short Line, Inc.—Acquis. & Operation Exemption—Line of Cornhusker Rys., FD 35423 (STB served Sept. 30, 2010).

This transaction is related to a concurrently filed verified notice of exemption in Cathcart Rail, LLC—Continuance in Control Exemption—Cornhusker Railroad, Docket No. FD 36541, in which Cathcart Rail, LLC, seeks to continue in control of CORN upon CORN's becoming a Class III rail carrier.

According to the verified notice, CORN has not yet entered into an agreement with the owner of the Line, but CORN states that, prior to exercising operating authority, it will acquire title to the rail assets that will be used in common carrier service.

CORN states that the proposed transaction does not involve any provision or agreement that would limit future interchange on the Line with a third-party connecting carrier. CORN certifies that its projected annual revenue will not exceed $5 million and that the proposed transaction will not result in CORN's becoming a Class I or II rail carrier.

The earliest this transaction may be consummated is September 19, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 10, 2021.

All pleadings, referring to Docket No. FD 36540, should be filed with the Surface Transportation Board via e-filing on the Board's website. In addition, a copy of each pleading must be served on CORN's representative, David F. Rifkind, Stinson LLP, 1775 Pennsylvania Avenue NW, Suite 800, Washington, DC 20006.

According to CORN, this action is categorically excluded from environmental review under 49 CFR 1105.6(c) and from historic preservation reporting requirements under 49 CFR 1105.8(b).

Board decisions and notices are available at www.stb.gov.

Decided: August 31, 2021.
By the Board, Scott M. Zimmerman, Acting Director, Office of Proceedings.
Aretha Laws-Byrum,
Clearance Clerk.

[FR Doc. 2021-19086 Filed 9-2-21; 8:45 am]

BILLING CODE 4915-01-P